DEPARTMENT OF DEFENSE

Department of the Army; Corps of Engineers

Notice of Intent To Prepare an Environmental Impact Statement for Skokomish General Investigation Study, Mason County, WA

AGENCY: Department of the Army, U.S. Army Corps of Engineers, DoD.

ACTION: Notice of intent.

SUMMARY: Pursuant to Section 102(2)(C) of the National Environmental Policy Act (NEPA) of 1969, as amended, the U.S. Army Corps of Engineers (USACE) will prepare an Integrated Feasibility Report/Environmental Impact Statement (FR/EIS) for proposed ecosystem restoration and flood risk management in the Skokomish River Basin which empties into Hood Canal, near Shelton, Washington. The Skokomish Indian Tribe and Mason County are the non-Federal sponsors for the project.

The Skokomish River General Investigation (GI) Feasibility Study for the Skokomish River Basin is being conducted under the authority of Section 209 of the Flood Control Act of 1962 (Pub. L. 87-874).

The Skokomish River channel has been filling with sediment for several decades, resulting in frequent flooding and decreasing natural ecosystem structures, functions, and processes necessary to support critical fish and wildlife habitat throughout the Skokomish River Basin. Increased sediment load, reduced flows, and encroachment of the floodplain by man-made structures are leading to continued degradation of natural ecosystem functions and habitat. The degraded riverine and estuarine aquatic habitat has caused a decline in the population of critical fish and wildlife species, including multiple ESA listed species. Additionally, the channel capacity of the Skokomish River varies significantly. Limited channel capacity causes floodwater to leave the banks at various locations, ultimately causing frequent flooding of local roads, two state highways, agricultural fields, residences, and other structures.

The Skokomish River GI is a basin-wide study; however, work by others, constrain the limit of Corps' involvement to actions primarily in the lower Skokomish River Valley. Problems, opportunities, and objectives will be examined within the context of the entire watershed. Recognizing the relationships between the upper and lower watershed will ensure a comprehensive study overview.

The purpose of the FR/EIS and feasibility study is to evaluate if there is a federal interest in aquatic ecosystem restoration and flood risk management in the Skokomish River Basin.

DATES: Submit comments by October 25, 2010 on the scope of issues to be addressed in the draft FR/EIS.

ADDRESSES: Address all comments concerning this notice to Mr. Patrick Cagney, Environmental Resources Section, U.S. Army Corps of Engineers, Seattle District, P.O. Box 3755, Seattle, WA 98124-3755. Submit electronic comments and supporting data to patrick.t.cagney@usace.army.mil

FOR FURTHER INFORMATION CONTACT: Questions regarding the scoping process or preparation of the draft EIS may be directed to Mr. Patrick Cagney, telephone (206) 764-3654, e-mail patrick.t.cagney@usace.army.mil

SUPPLEMENTARY INFORMATION:

1. Study Area: The Skokomish River Basin (Basin) is located in northwest Washington, predominantly in Mason County. The project study area is comprised of the entire drainage basin, including the estuary at Annas Bay. The river collects drainage from an approximate 240 square mile drainage basin, and eventually flows into southern Hood Canal, an arm of Puget Sound. The river flows out of three sub-basins (South Fork, North Fork, and Vance Creek) into a broad, flat alluvial plain known as the Skokomish River Valley. The Skokomish Indian Reservation is located within the lower valley and extends along the southeast portion of the Olympic Peninsula. The Basin is defined by the Water Resource Inventory Area (WRIA) 16 and is located within U.S. Congressional District #6 of Washington State.

2. Alternatives: The EIS will separately evaluate alternatives for aquatic ecosystem restoration and flood risk management. Alternatives that will be evaluated under aquatic ecosystem restoration will include an alternative that uses physical actions to restore the Basin's habitat-forming processes and/or create habitats that have been lost as a result of historic alterations. Example of actions that could occur under this alternative include: increasing floodplain habitat and connectivity, restoring off-channel habitat for juvenile fish, improving estuarine functions and processes, and increasing emergent and riparian vegetation. Another alternative that will be considered will focus on benefits to the several aquatic species listed under the Endangered Species Act. Actions under this alternative could include creation of spawning and rearing areas, and additional fish supplementation. The no action alternative will also be evaluated.

Alternatives for flood risk management include evaluation of the current levee system. Actions under this alternative may include setback levees to improve flood containment. Another alternative would study the effects of sediment removal and actions could include: sediment traps, dredging and selective gravel removal. Another alternative would focus on nonstructural actions such as flood proofing and education. The no action alternative will also be evaluated.

These alternatives are not final and may change and/or new alternatives may develop during the scoping and NEPA process. A range of ecosystem restoration and flood risk management actions will be investigated and more than one option may be included in the preferred alternative. Additionally, a number of potential ecosystem restoration actions could meet ancillary flood risk management goals.

3. Scoping and Public Involvement: This notice of intent formally commences the scoping process under NEPA. As part of the scoping process, all affected Federal, state, and local agencies, Native American tribes, interested private organizations, including environmental interest groups and the general public are invited to comment on the scope of the draft FR/EIS. Comments are requested concerning problems in the basin, possible project alternatives, mitigation measures, probable significant environmental impacts, and permits or other approvals that may be required. The environmental review process will be comprehensive and will satisfy the requirements of NEPA and other relevant Federal, state, and local environmental laws. The public scoping period will occur over a 30-day period to commence on September 24, 2010 and will extend through October 25, 2010. The Draft FR/EIS is expected to be available in November of 2011.

4. Scoping Meeting: One public scoping meeting will be held on October 7, 2010 to identify issues of major concern and obtain public input on the range and acceptability of alternatives. This meeting will be held at Mason County Public Works, 100 West Public Works Drive, Shelton, Washington, 98584. An informal open house will be held between 4 and 5:30 p.m. A presentation to summarize the purpose of scoping and existing information will be made between 5:30 and 6 p.m. Then, verbal testimony (maximum 4 minutes) will be taken between 6 and 7 p.m. Written comments may be sent by regular or electronic mail to EIS Scoping Comments c/o Patrick Cagney (see ADDRESSES). Ongoing communication with agencies, Native American tribes, public interest groups, and interested citizens will take place throughout the EIS development through the use of public meetings, mailings and the Internet. Additional meetings will be scheduled upon completion of the draft EIS.

Anthony Wright,
Colonel, Corps of Engineers, District Commander.

[FR Doc. 2010-23946 Filed 9-23-10; 8:45 am]

BILLING CODE 3720-58-P